DEPARTMENT OF THE INTERIOR

Bureau of Land Management

[MTM 952800; 3720-58]

Legal Description of the Limestone Hills Training Area Withdrawal, Montana

AGENCY: Bureau of Land Management, Interior.

ACTION: Notice of legal description.

SUMMARY: This notice provides official publication of the legal description for the Limestone Hills Training Area (LHTA) Withdrawal and notification of the availability of the map dated May 11, 2017.

DATES: The lands in the legal description contained in this notice were withdrawn on December 26, 2013.

FOR FURTHER INFORMATION CONTACT: Mike Insko, Realty Specialist, telephone: 406-533-7600; email: minsko@blm.gov. Persons who use a telecommunications device for the deaf may call the Federal Relay Service (FRS) at 1-800-877-8339 to leave a message or question for Mr. Insko. The FRS is available 24 hours a day, 7 days a week. You will receive a reply during normal business hours.

SUPPLEMENTARY INFORMATION: Section 2912(a)(1) of Public Law 113-66, enacted December 26, 2013, and known as the National Defense Authorization Act (NDAA) for Fiscal Year (FY) 2014 (FY2014 NDAA), withdrew lands in the LHTA for military purposes based on a map dated April 10, 2013. The FY2014 NDAA required the Bureau of Land Management (BLM) to publish the official legal description of the lands in the Federal Register as soon as practicable after enactment of the legislation. The BLM could not use the April 10, 2013, map to create a legal description without an on-the-ground cadastral survey, and agreed to correct the map. Section 2850 of Public Law 115-232, enacted August 13, 2018, and known as the NDAA for FY 2019 (FY2019 NDAA), references an updated map dated May 11, 2017, as a technical correction and the basis for the legal description.

The legal description of the withdrawal for the LHTA is as follows:

Principal Meridian, Montana

T. 5 N., R. 1 E.,

Sec. 4, lots 1 and 2.

T. 6 N., R. 1 E.,

Sec. 2, lots 2, 3, and 4, W1/2SW1/4NE1/4, S1/2NW1/4, N1/2SW1/4, SE1/4SW1/4, SW1/4SE1/4, and SW1/4SE1/4SE1/4;

Sec. 3, lots 1 thru 4, S1/2NE1/4, S1/2NW1/4, and S1/2;

Sec. 4, lots 1 thru 4, S1/2NE1/4, S1/2NW1/4, and S1/2;

Sec. 5, lots 1 and 2, S1/2NE1/4, and SE1/4;

Sec. 8, E1/2 and E1/2SW1/4;

Secs. 9 and 10;

Sec. 11, E1/2, E1/2NW1/4, E1/2SW1/4, and SW1/4SW1/4;

Sec. 12, lots 2, 3, and 4, W1/2NE1/4, W1/2, and W1/2SE1/4;

Sec. 13, lots 1 thru 4, W1/2NE1/4, W1/2, and W1/2SE1/4;

Secs. 14 and 15;

Sec. 17, E1/2, E1/2NW1/4, and E1/2SW1/4;

Sec. 20, E1/2, E1/2NW1/4, and E1/2SW1/4;

Sec. 21;

Sec. 22, lots 3 and 4, W1/2NW1/4, and S1/2SW1/4;

Sec. 23;

Sec. 24, lots 1 thru 4, W1/2NE1/4, W1/2, and W1/2SE1/4;

Sec. 25, lots 1 thru 4, W1/2NE1/4, W1/2, and W1/2SE1/4;

Sec. 26;

Sec. 27, lots 1 thru 9, NE1/4NE1/4, S1/2NE1/4, and SE1/4;

Sec. 28, lots 1 thru 4, N1/2NE1/4, W1/2, and W1/2SE1/4;

Sec. 29, NE1/4, E1/2NW1/4, NE1/4SW1/4, N1/2SE1/4, and SW1/4SE1/4;

Sec. 33, E1/2;

Sec. 34, lots 1 thru 8, NE1/4, N1/2NW1/4, and N1/2SE1/4;

Sec. 35, lots 1 thru 4, N1/2, N1/2SW1/4, and N1/2SE1/4.

T. 7 N., R. 1 E.,

Sec. 26, S1/2NE1/4, S1/2SW1/4NW1/4, S1/2SE1/4NW1/4, and S1/2;

Sec. 27, lots 6, 7, and 8, S1/2SW1/4, and S1/2SE1/4;

Sec. 28, SE1/4SW1/4SW1/4SW1/4, S1/2SE1/4SW1/4SW1/4, SE1/4NE1/4SE1/4SW1/4, S1/2SE1/4SW1/4, NE1/4SW1/4SE1/4, S1/2NW1/4SW1/4SE1/4, S1/2SW1/4SE1/4, and SE1/4SE1/4;

Sec. 32, lots 1 and 6, NE1/4NE1/4NE1/4, S1/2NE1/4NE1/4, NE1/4SE1/4NW1/4NE1/4, S1/2SE1/4NW1/4NE1/4, E1/2NW1/4SW1/4NE1/4, E1/2SW1/4SW1/4NE1/4, E1/2SW1/4NE1/4, SE1/4NE1/4, and E1/2SE1/4;

Secs. 33, 34, and 35.

T. 6 N., R. 2 E.,

Sec. 17, S1/2SW1/4;

Sec. 18, lot 4, SE1/4SW1/4, and S1/2SE1/4;

Sec. 19, lots 1, 2, and 3;

Sec. 19, E1/2NE1/4 and SE1/4 (minerals only);

Sec. 20, W1/2;

Sec. 30, lots 2, 3, and 4, NE1/4NE1/4, S1/2NE1/4, SE1/4NW1/4, E1/2SW1/4, and SE1/4;

Sec. 30, NW1/4NE1/4 and NE1/4NW1/4 (minerals only).

The lands described aggregate 18,962.72 acres, including 18,642.72 acres of public domain and 320 acres of Federal reserved mineral estate.

The FY14 NDAA withdrew the lands on December 26, 2013, from all forms of appropriation under the public land laws, including the mining laws, the mineral leasing laws, and geothermal leasing laws, subject to valid existing rights except as otherwise provided for under Sections 2931-2936 of the FY2014 NDAA.

Copies of the legal description and map as corrected under Section 2850 of the FY2019 NDAA are available for public inspection in the following offices:

BLM, Attn: Celeste Mitchell (WO350), 20 M Street SE, Washington, DC 20003-3503.

BLM, Montana/Dakotas State Office (954), 5001 Southgate Drive, Billings, Montana 59101.

BLM, Butte Field Office, 106 North Parkmont, Butte, Montana 59701.

U.S. Army Corps of Engineers, Seattle District Real Estate Division, 4735 E. Marginal Way S., Bldg 1202, Seattle, WA 98134.

Montana Army National Guard, Public Affairs Office, 1956 Mt Majo Street, Fort Harrison, Montana 59636-4789.

Office of the Secretary of Defense, 1000 Defense Pentagon, Washington, DC 20301-1000.

Scott S. Haight,
Field Manager, Butte Field Office, Montana/Dakotas Bureau of Land Management.

[FR Doc. 2019-04061 Filed 3-5-19; 8:45 am]

BILLING CODE 3720-58-P